DEPARTMENT OF ENERGY

Federal Energy Regulatory Commission

[Project No. 2528-106]

Notice of Intent To File License Application, Filing of Pre-Application Document (Pad), Commencement of LLP Pre-Filing Process, and Scoping; Request for Comments on the Pad and Scoping Document, and Identification of Issues and Associated Study Requests: Brookfield White Pine Hydro, LLC

a. Type of Filing: Notice of Intent to File License Application for a New License and Commencing Pre-filing Process.

b. Project No.: 2528-106.

c. Dated Filed: August 20, 2024.

d. Submitted By: Brookfield White Pine Hydro, LLC (White Pine Hydro).

e. Name of Project: Cataract Hydroelectric Project (Cataract Project or project).

f. Location: The project is located on the Saco River in the cities of Saco and Biddeford, in York County, Maine.

g. Filed Pursuant to: 18 CFR part 5 of the Commission's Regulations.

h. Potential Applicant Contact: Michael Scarzello, Licensing Manager, Brookfield White Pine Hydro LLC, 150 Main Street, Lewiston, Maine 04240; (315) 566-0197; Michael.Scarzello@brookfieldrenewable.com.

i. FERC Contact: David Gandy at (202) 502-8560, or email at david.gandy@ferc.gov.

j. Cooperating agencies: Federal, state, local, and Tribal agencies with jurisdiction and/or special expertise with respect to environmental issues that wish to cooperate in the preparation of the environmental document should follow the instructions for filing such requests described in item o below. Cooperating agencies should note the Commission's policy that agencies that cooperate in the preparation of the environmental document cannot also intervene. See 94 FERC ¶ 61,076 (2001).

k. With this notice, we are initiating informal consultation with the U.S. Fish and Wildlife Service and the National Marine Fisheries Service under section 7 of the Endangered Species Act and the joint agency regulations thereunder at 50 CFR part 402; and the National Marine Fisheries Service under section 305(b) of the Magnuson-Stevens Fishery Management and Conservation Act and implementing regulations at 50 CFR part 600.920. We are also initiating consultation with the Maine State Historic Preservation Officer, as required by section 106, National Historic Preservation Act, and the implementing regulations of the Advisory Council on Historic Preservation at 36 CFR part 800.2.

l. With this notice, we are designating White Pine Hydro as the Commission's non-federal representative for carrying out informal consultation, pursuant to section 7 of the Endangered Species Act, the Magnuson-Stevens Fishery Management and Conservation Act, and section 106 of the National Historic Preservation Act.

m. White Pine Hydro filed with the Commission a Pre-Application Document (PAD; including a proposed process plan and schedule), pursuant to 18 CFR 5.6 of the Commission's regulations.

n. A copy of the PAD may be viewed on the Commission's website (http://www.ferc.gov) using the “eLibrary” link. Enter the docket number, excluding the last three digits in the docket number field, to access the document. For assistance, contact FERC at FERCOnlineSupport@ferc.gov, or call (866) 208-3676 (toll free) or (202) 502-8659 (TTY). A copy is also available for inspection and reproduction at the address in paragraph h.

You may register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595, or at OPP@ferc.gov.

o. With this notice, we are soliciting comments on the PAD and Commission staff's Scoping Document 1 (SD1), as well as study requests. All comments on the PAD and SD1, and study requests should be sent to the address above in paragraph h. In addition, all comments on the PAD and SD1, study requests, requests for cooperating agency status, and all communications to and from Commission staff related to the merits of the potential application must be filed with the Commission.

The Commission strongly encourages electronic filing. Please file all documents using the Commission's eFiling system at https://ferconline.ferc.gov/FERCOnline.aspx. Commenters can submit brief comments up to 6,000 characters, without prior registration, using the eComment system at https://ferconline.ferc.gov/QuickComment.aspx. For assistance, please contact FERC Online. In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Cataract Hydroelectric Project (P-2528-106).

All filings with the Commission must bear the appropriate heading: “Comments on Pre-Application Document,” “Study Requests,” “Comments on Scoping Document 1,” “Request for Cooperating Agency Status,” or “Communications to and from Commission Staff.” Any individual or entity interested in submitting study requests, commenting on the PAD or SD1, and any agency requesting cooperating status must do so by December 18, 2024.

p. Pursuant to the National Environmental Policy Act (NEPA), Commission staff will prepare either an environmental assessment (EA) or an environmental impact statement (EIS) (collectively referred to as the “NEPA document”) that describes and evaluates the probable effects, including an assessment of the site-specific and cumulative effects, if any, of the proposed action and alternatives. The Commission's scoping process will help determine the required level of analysis and satisfy the NEPA scoping requirements, irrespective of whether the Commission issues an EA or EIS.

Environmental Site Review

White Pine Hydro and Commission staff will hold an environmental site review of the Cataract Project on Tuesday, November 19, 2024, 8:30 a.m. to 11:30 a.m. Eastern Daylight Time (EDT). Participants interested in attending are encouraged to meet 15 minutes early at the Factory Island Parking Lot located at 146 Main Street, Saco, ME 04072 (Google Maps address link). Participants must register in advance to attend by contacting Michael Scarzello at (315) 566-0197, or by email at Michael.Scarzello@brookfieldrenewable.com on or before Tuesday, November 12, 2024.

White Pine Hydro will provide a safety briefing at the beginning of the environmental site review and has indicated that persons attending the environmental site review will need to comply with the following requirements: (1) persons must be 18 years or older; (2) persons should wear sturdy shoes (open-toed shoes/sandals/flip flops/high heels, etc. will not be allowed on the environmental site review); (3) no photography will be allowed on-site; (4) small bags containing personal items for the site visit (i.e., notebooks, maps, water, etc.) will be allowed; (5) no weapons are allowed on-site; (6) no alcohol/drugs are allowed on-site (or persons exhibiting the effects thereof); and (7) no animals (except for service animals) are allowed.

Scoping Meetings

Commission staff will hold two scoping meetings in the vicinity of the project. The daytime meeting will focus on resource agencies, Native American Tribes, and non-governmental organization (NGO) concerns, while the evening meeting will primarily focus on receiving input from the public. We invite all interested agencies, Native American Tribes, NGOs, and individuals to attend one or both meetings to assist us in identifying the scope of environmental issues that should be analyzed in the NEPA document. The dates and times of the scoping meetings are listed below.

Daytime Scoping Meeting

Date: Tuesday, November 19, 2024.

Time: 2:00 p.m. to 4:00 p.m.

Location: Ferry Beach Retreat and Conference Center, Zeigler Room.

Address: 5 Boardwalk Drive, Saco, Maine 04072.

Phone: (207) 282-4489.

Evening Scoping Meeting

Date: Tuesday, November 19, 2024.

Time: 6:00 p.m. to 8:00 a.m.

Location: Ferry Beach Retreat and Conference Center, Zeigler Room.

Address: 5 Boardwalk Drive, Saco, Maine 04072.

Phone: (207) 282-4489.

Scoping Document 1 (SD1), which outlines the subject areas to be addressed in the environmental document, was mailed to the individuals and entities on the Commission's mailing list, as well as White Pine Hydro's distribution list. Copies of SD1 will be available at the scoping meetings or may be viewed on the web at http://www.ferc.gov, using the “eLibrary” link. Follow the directions for accessing information in paragraph n. Based on all oral and written comments, a Scoping Document 2 (SD2) may be issued. The SD2 may include a revised process plan and schedule, as well as a list of issues, identified through the scoping process.

Meeting Procedures

Agencies, Native American Tribes, NGOs, and individuals with environmental expertise and concerns are encouraged to attend the meetings and to assist the staff in defining and clarifying the issues to be addressed in the NEPA document. At the start of each meeting, Commission staff will provide a brief overview of the meeting format and objectives. Individual oral comments will be taken on a one-on-one basis with a court reporter (with Commission staff present). This format is designed to receive the maximum number of oral comments in a convenient way during the timeframe allotted. If you wish to speak, Commission staff will hand out numbers in the order of your arrival. If all individuals who wish to provide comments have had an opportunity to do so, Commission staff may conclude the meeting a half hour earlier than the scheduled time. Please see appendix A of the SD1 for additional information on the session format and conduct.¹

¹ The appendix referenced in this notice will not appear in the Federal Register. Copies of the appendix were sent to all those receiving this notice in the mail and are available at www.ferc.gov using the “eLibrary” link. For assistance, contact FERC at FERCOnlineSupport@ferc.gov, or (866) 208-3676 (toll free) or (202) 502-8659 (TTY).

Scoping comments will be recorded by the court reporter and become part of the public record for this proceeding. Transcripts will be publicly available on FERC's eLibrary system. If a significant number of people are interested in providing oral comments in the one-on-one settings, a time limit may be implemented for each commentor.

It is important to note that the Commission provides equal consideration to all comments received, whether filed in writing or provided orally at a scoping session. Although there will not be a formal presentation, Commission staff will be available throughout the scoping meeting(s) to answer your questions about the environmental review process. Representatives from White Pine Hydro will also be present to answer project-specific questions.

Dated: October 17, 2024.
Debbie-Anne A. Reese,
Secretary.

[FR Doc. 2024-24522 Filed 10-22-24; 8:45 am]

BILLING CODE 6717-01-P